DEPARTMENT OF TRANSPORTATION

Federal Aviation Administration

14 CFR Part 39

[Docket No. FAA-2013-0021; Directorate Identifier 2010-SW-040-AD]

RIN 2120-AA64

Airworthiness Directives; Eurocopter Deutschland GmbH Helicopters

AGENCY: Federal Aviation Administration, DOT.

ACTION: Notice of proposed rulemaking (NPRM).

SUMMARY: We propose to adopt a new airworthiness directive (AD) for the Eurocopter Deutschland GmbH (Eurocopter) Model MBB-BK 117 C-2 helicopters. This proposed AD would require changing the direction of the bolt connecting the upper clevis bolt of a specific bellcrank in the main rotor assembly, repetitively inspecting the bearings in the bellcrank assemblies for correct staking, and replacing a bellcrank if a bearing is staked incorrectly. This proposed AD is prompted by improperly staked bellcrank bearings, which may cause the bellcrank to shift in the axial direction and cause chafing. The proposed actions are intended to prevent contact between the bolts on certain main rotor bellcranks, which could result in chafing and subsequent loss of control of the helicopter.

DATES: We must receive comments on this proposed AD by April 2, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review copies of the referenced service information at the FAA, Office of the Regional Counsel, Southwest Region, 2601 Meacham Blvd., Room 663, Fort Worth, Texas 76137.

FOR FURTHER INFORMATION CONTACT: Jim Grigg, ASW-112, Aviation Safety Engineer, Rotorcraft Directorate, Safety Management Group, 2601 Meacham Blvd., Fort Worth, Texas 76137, telephone (817) 222-5126, fax (817) 222-5961, email Jim.Grigg@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Community, has issued EASA AD No. 2010-0045, 2nd Correction, dated March 30, 2010, to correct an unsafe condition for the Eurocopter Model MBB-BK 117 C-2 helicopters. EASA advises that during inspections on these model helicopters, bellcrank bearings have been discovered that were incorrectly staked. EASA advises that this condition, if not detected and corrected, may cause the affected bellcrank to shift in the axial direction and cause chafing. This could lead to interference between the bolts connecting the control rods to Bellcrank-Q and Bellcrank-K, possibly resulting in reduced control of the helicopter.

FAA's Determination

These helicopters have been approved by the aviation authority of the Federal Republic of Germany and are approved for operation in the United States. Pursuant to our bilateral agreement with the Federal Republic of Germany, EASA, its technical representative, has notified us of the unsafe condition described in its AD. We are proposing this AD because we evaluated all known relevant information and determined that an unsafe condition exists and is likely to exist or develop on other helicopters of the same type design.

Related Service Information

Eurocopter has issued Alert Service Bulletin No. MBB BK117 C-2-67A-011, Revision 1, dated February 23, 2010 (ASB), which specifies checking the attachment of the bearings, changing the direction of the bellcrank bolt, and, if necessary, replacing damaged parts. EASA classified this ASB as mandatory and issued EASA AD No. 2010-0045, 2nd Correction, dated March 30, 2010, to ensure the continued airworthiness of these helicopters.

Proposed AD Requirements

This proposed AD would require compliance with the Accomplishment Instructions, paragraph 3.B. and 3.C., of the manufacturer's service bulletin.

Differences Between This Proposed AD and the EASA AD

We refer to a check of the bearings as an inspection of the bearings. We require an inspection within 100 hours time-in-service rather than mandating a date or requiring that the part accumulate 50 flight hours after installation. We refer to the “attachment” of the bearings as “staking” of the bearings. We added the words “chafing or corrosion” to define damage to the parts. We do not mandate compliance with the entire ASB, but rather specific paragraphs.

Costs of Compliance

We estimate that this proposed AD would affect 96 helicopters of U.S. registry. We estimate that operators may incur the following costs in order to comply with this AD.

• 1 work hour to inspect the bolt, and

• 2 work hours to replace the bolt at an average labor rate of $85 per work hour.

Based on these figures ($85 × 3 hours), we estimate the total cost impact of the proposed AD on U.S. operators in the first year to be $255 per helicopter or $24,480 for the U.S. fleet.

If a bellcrank or bearing block is to be replaced, we estimate the following costs:

• 10 hours to change a bellcrank (assuming all 3 are replaced) for a labor cost of $850 per helicopter, and

• 10 hours to change a bearing block for a labor cost of $850 per helicopter.

Required parts would cost about:

• $4,632 for a Bellcrank-Q,

• $3,294 for a Bellcrank-K,

• $4,411 for a Bellcrank-L, and

• $1,150 for a bearing block.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Eurocopter Deutschland GmbH: Docket No. FAA-2013-0021; Directorate Identifier 2010-SW-040-AD.

(a) Applicability

This AD applies to Model MBB-BK 117 C-2 helicopters with Bellcrank-Q part number (P/N) B671M7004101, Bellcrank-K P/N B670M7021101, or Bellcrank-L P/N B671M7003101 installed, certificated in any category.

(b) Unsafe Condition

This AD defines the unsafe condition as interference between the connecting control rods to bolts on Bellcranks Q and K. This condition could result in chafing and subsequent loss of control of the helicopter.

(c) Compliance

You are responsible for performing each action required by this AD within the specified compliance time unless it has already been accomplished prior to that time.

(d) Required Actions

(1) Within 100 hours time-in-service (TIS), change the direction of the bolt connecting the upper clevis bolt of Bellcrank-Q as depicted in Figure 1 of Eurocopter Alert Service Bulletin No. MBB BK117 C-2-67A-011, Revision 1, dated February 23, 2010 (ASB), and by following the Accomplishment Instructions, paragraph 3.B. of the ASB.

(2) Thereafter, at intervals not to exceed 300 hours TIS, using a suitable light source and a mirror, inspect the bearings in the bellcrank assemblies for correct staking of the bearings as depicted in Figure 2 of the ASB. The bearings should be flush mounted, and there should be a space between the bellcrank and bearing block.

(3) If there is an incorrectly staked bearing, before further flight:

(i) Replace the bellcrank with an airworthy bellcrank; and

(ii) Inspect the bearing block for damage (a crack, deformation, mechanical damage, or corrosion). If damage exceeds allowable limits, replace the bearing block with an airworthy bearing block. If damage is within allowable limits, repair the bearing block.

(e) Alternative Methods of Compliance (AMOC)

(1) The Manager, Safety Management Group, FAA, may approve AMOCs for this AD. Send your proposal to: Jim Grigg, ASW-112, Aviation Safety Engineer, Rotorcraft Directorate, Safety Management Group, 2601 Meacham Blvd., Fort Worth, Texas 76137, telephone (817) 222-5126, fax (817) 222-5961, email Jim.Grigg@faa.gov.

(2) For operations conducted under 14 CFR part 119 operating certificate or under 14 CFR part 91, subpart K, we suggest that you notify your principal inspector, or lacking a principal inspector, the manager of the local flight standards district office or certificate holding district office before operating any aircraft complying with this AD through an AMOC.

(f) Additional Information

(1) For service information identified in this proposed AD, contact American Eurocopter Corporation, 2701 N. Forum Drive, Grand Prairie, TX 75052; telephone (972) 641-0000 or (800) 232-0323; fax (972) 641-3775; or at http://www.eurocopter.com/techpub. You may review copies of the referenced service information at the FAA, Office of the Regional Counsel, Southwest Region, 2601 Meacham Blvd., Room 663, Fort Worth, Texas 76137.

(2) The subject of this AD is addressed in EASA AD No. 2010-0045, 2nd Correction, dated March 30, 2010.

(g) Subject

Joint Aircraft System/Component (JASC) 6710: Bellcrank Bearings and Bearing Block.

Issued in Fort Worth, Texas, on January 9, 2013.
Kim Smith,
Directorate Manager, Rotorcraft Directorate, Aircraft Certification Service.

[FR Doc. 2013-02245 Filed 1-31-13; 8:45 am]

BILLING CODE 4910-13-P